DEPARTMENT OF COMMERCE

Foreign-Trade Zones Board

[Docket 14-2005]

Foreign-Trade Zone 207—Richmond, VA, Application for Expansion

An application has been submitted to the Foreign-Trade Zones (FTZ) Board (the Board), by the Capital Region Airport Commission, grantee of Foreign-Trade Zone 207, requesting authority to expand its zone to include a site in Prince George County, Virginia, within the Richmond Customs port of entry. The application was submitted pursuant to the provisions of the Foreign-Trade Zones Act, as amended (19 U.S.C. 81a-81u), and the regulations of the Board (15 CFR part 400). It was formally filed on March 14, 2005.

FTZ 207 was approved on March 31, 1995 (Board Order 733, 60 FR 18394, 4/11/95). The general-purpose zone consists of the following sites: Site 1 (2,044 acres)—Richmond International Airport Complex; and, Site 1A (11 acres)—Lewiston Industrial Park, 11293 Central Drive, Ashland.

The applicant is now requesting authority to expand the general-purpose zone to include a site within the 345-acre South Point Business Park (Proposed Site 2—221 acres) located at 8100 Quality Drive in Prince George (Prince George County), Virginia. The site is owned by the Hollingsworth Companies. The site will be used for general warehousing and distribution activities. No specific manufacturing authority is being requested at this time. Such requests would be made on a case-by-case basis.

In accordance with the Board's regulations, a member of the FTZ Staff has been designated examiner to investigate the application and report to the Board.

Public comment on the application is invited from interested parties. Submissions (original and 3 copies) shall be addressed to the Board's Executive Secretary at one of the following addresses:

1. Submissions via Express/Package Delivery Services: Foreign-Trade Zones Board, U.S. Department of Commerce, Franklin Court Building—Suite 4100W, 1099 14th Street, NW., Washington, DC 20005; or,

2. Submissions via the U.S. Postal Service: Foreign-Trade Zones Board, U.S. Department of Commerce, FCB—Suite 4100W, 1401 Constitution Avenue, NW., Washington, DC 20230.

The closing period for their receipt is May 20, 2005. Rebuttal comments in response to material submitted during the foregoing period may be submitted during the subsequent 15-day period (to June 6, 2005.).

A copy of the application and accompanying exhibits will be available during this time for public inspection at address Number 1 listed above, and at the U.S. Department of Commerce, Export Assistance Center, 400 North 8th Street, Suite 540, Richmond, VA 23240.

Dated: March 14, 2005.
Dennis Puccinelli,
Executive Secretary.

[FR Doc. 05-5535 Filed 3-18-05; 8:45 am]

BILLING CODE 3510-DS-P